DEPARTMENT OF HEALTH AND HUMAN SERVICES

National Institutes of Health

Proposed Collection; 60-Day Comment Request; Generic Clearance for Conferences, Meetings, Workshops, Poster Sessions and Registrations (Office of the Director)

AGENCY: National Institutes of Health, HHS.

ACTION: Notice.

SUMMARY: In compliance with the requirement of the Paperwork Reduction Act of 1995 to provide opportunity for public comment on proposed data collection projects, the National Institutes of Health Office of the Director (OD) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Ms. Mikia P. Currie, Chief, Project Clearance Branch (PCB), Office of Policy for Extramural Research Administration, 6705 Rockledge Drive, Suite 803-B, Bethesda, Maryland 20892, or call non-toll-free number (301) 435-0941 or Email your request, including your address to: curriem@mail.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Generic Clearance for Conferences, Meetings, Workshops, Poster Sessions and Registrations, exp., date 07/31/2022, Office of the Director (OD), National Institutes of Health (NIH).

Need and Use of Information Collection: The information collection encompassed by this generic clearance continues to allow NIH to select the most appropriate participants for non-grantee activities sponsored, organized, and run by NIH staff, according to the type and purpose of the activity. For example, NIH may develop an application process or information collection to select a limited number of researchers to participate in a poster session, identify speakers and panelists with desired expertise on a specific topic to be covered at a meeting, or determine which researchers would mostly likely benefit from a training course or other opportunity. For NIH to plan and conduct activities that are timely for participants in their field of research, it is often necessary for such information to be collected within a relatively short turnaround time. In general, submitted abstracts or other application materials will be reviewed by an internal NIH committee responsible for planning the activities. This committee will be responsible for selecting and notifying participants. The information collected for these activities generally include title, author(s), and institution/organization, poster size and character limitations along with other requirements. This information is necessary to identify attendees eligible, present research, speak on panels, and discuss innovative approaches to science and technology for poster presentations among their peers. The registration form collects information from interested parties to register them and obtain the necessary qualifications for conferences, meetings, workshops, poster sessions, presentations and panels.

OMB approval is requested for 3 years. There are no costs to respondents other than their time. The total estimated annualized burden hours are 8,875.

Estimated Annualized Burden Table
Type of form | Number of respondents | Number of responses per respondent | Average burden (in hours) per response | Total burden hours
Conferences | 2,500 | 1 | 1 | 2,500
Meetings | 2,500 | 1 | 45/60 | 1,875
Workshops | 2,500 | 1 | 30/60 | 1,250
Poster Session | 1,000 | 1 | 1 | 1,000
Panels | 1,500 | 1 | 30/60 | 750
Presentations | 1,500 | 1 | 1 | 1,500
Total |  | 11,500 |  | 8,875

Date: April 27, 2022.
Tara A. Schwetz,
Acting Principal Deputy Director, National Institutes of Health.

[FR Doc. 2022-09644 Filed 5-4-22; 8:45 am]

BILLING CODE 4140-01-P